DEPARTMENT OF THE INTERIOR

Bureau of Ocean Energy Management, Regulation and Enforcement

[Docket ID No. BOEM-2011-0001]

BOEMRE Information Collection Activity: Coastal Impact Assistance Program (CIAP), Renewal of a Collection; Submitted for Office of Management and Budget (OMB) Review; Comment Request

AGENCY: Bureau of Ocean Energy Management, Regulation and Enforcement (BOEMRE), Interior.

ACTION: Notice of extension of an information collection.

SUMMARY: To comply with the Paperwork Reduction Act of 1995 (PRA), we are notifying the public that we have submitted to OMB an information collection request (ICR) to renew approval of the paperwork requirements that address the BOEMRE's Coastal Impact Assistance Program (CIAP), which is a grant program. This notice also provides the public a second opportunity to comment on the paperwork burden of these requirements.

DATES: Submit written comments by August 22, 2011.

ADDRESSES: Submit comments by either fax (202) 395-5806 or e-mail (OIRA_DOCKET@omb.eop.gov) directly to the Office of Information and Regulatory Affairs, OMB, Attention: Desk Officer for the Department of the Interior (1010-0170). Please also submit a copy of your comments to BOEMRE by any of the means below.

• Electronically: Go to http://www.regulations.gov. In the entry titled, “Enter Keyword or ID,” enter BOEM-2011-0001 then click search. Follow the instructions to submit public comments and view supporting and related materials available for this collection. BOEMRE will post all comments.

• E-mail: cheryl.blundon@boemre.gov. Mail or hand-carry comments to: Department of the Interior; Bureau of Ocean Energy Management, Regulation and Enforcement; Attention: Cheryl Blundon; 381 Elden Street, MS-4024; Herndon, Virginia 20170-4817. Please reference ICR 1010-0170 in your comment and include your name and return address.

FOR FURTHER INFORMATION CONTACT: Cheryl Blundon, Regulations and Standards Branch, (703) 787-1607. To see a copy of the entire ICR submitted to OMB, go to http://www.reginfo.gov (select Information Collection Review, Currently Under Review).

SUPPLEMENTARY INFORMATION: Title: Coastal Impact Assistance Program.

OMB Control Number: 1010-0170.

Abstract: With the passage of the Energy Policy Act of 2005 (EPAct), the Bureau of Ocean Energy Management, Regulation and Enforcement (BOEMRE) was given responsibility for the Coastal Impact Assistance Program (CIAP) through the amendment of Section 31 of the Outer Continental Shelf Lands Act (43 U.S.C. 1356a Appendix A). The following requirements from this amendment necessitate the collection of information.

“(d) AUTHORIZED USES.—

(1) IN GENERAL.—A producing State or coastal political subdivision shall use all amounts received under this section, including any amount deposited in a trust fund that is administered by the State or coastal political subdivision and dedicated to uses consistent with this section, in accordance with all applicable Federal and State law, only for 1 or more of the following purposes:

(A) Projects and activities for the conservation, protection, or restoration of coastal areas, including wetland.

(B) Mitigation of damage to fish, wildlife, or natural resources.

(C) Planning assistance and the administrative costs of complying with this section.

(D) Implementation of a federally-approved marine, coastal, or comprehensive conservation management plan.

(E) Mitigation of the impact of outer Continental Shelf activities through funding of onshore infrastructure projects and public service needs.

(2) COMPLIANCE WITH AUTHORIZED USES.—If the Secretary determines that any expenditure made by a producing State or coastal political subdivision is not consistent with this subsection, the Secretary shall not disburse any additional amount under this section to the producing State or the coastal political subdivision until such time as all amounts obligated for unauthorized uses have been repaid or reobligated for authorized uses.

(3) LIMITATION.—Not more than 23 percent of amounts received by a producing State or coastal political subdivision for any 1 fiscal year shall be used for the purposes described * * *”

Information needs to be submitted by the government jurisdictions to meet all the requirements of the CIAP State Plan Guidelines as well as requirements on the procurement contracts. Responses are mostly required to obtain or retain a benefit. No questions of a “sensitive” nature are asked. BOEMRE protects information considered proprietary according to the Freedom of Information Act (5 U.S.C. 552) and its implementing regulations (43 CFR 2).

According to the EPAct, in order to receive funds, the states must submit CIAP State Plans that contain required components including an implementation plan of the state's program and identification of the proposed use of CIAP funds. The identification will be provided in the Plan as brief descriptions of the proposed projects. Upon approval of a Plan, recipients will be able to submit grant applications for a project. Applicants submit proposals for funding in response to a Notice of Funding Availability that we publish on Grants.gov and on our program web pages. Proposals are submitted through Grants.gov. An application consists of OMB required forms for grants; a detailed project description or narrative to demonstrate that the project has maintained the integrity of the brief description in the Plan and still meets EPAct criteria; and documentation such as Federal, State, or local government required permits with which the recipient is stating it has met Federal, State, or local laws.

Once an application for a project is approved, BOEMRE is required to monitor the projects to determine that the CIAP funds are being used for appropriate expenses. The monitoring will be achieved through the grant regulations that require, at a minimum, a recipient to provide an annual progress and financial status reports. Recipients are evaluated by contracting officers via Grants.gov application efforts. The recipients that are determined by the evaluations to likely have difficulties in implementing and managing the CIAP funded projects will be required to submit semi-annual reports. Once the recipient has demonstrated the ability to implement and manage their projects, the requirement can be returned to annual reports.

BOEMRE needs the information required so that technical experts can determine how well it addresses the requirements identified in the authorizing EPAct legislation and monitor the projects to meet specific requirements.

Frequency: Submissions are annually, bi-annually, or specific to the requirement which is usually on occasion.

Description of Respondents: Approximately 73 total respondents. This includes 6 states and 67 boroughs, parishes, etc.

Estimated Reporting and Recordkeeping Hour Burden: The estimated annual hour burden for this information collection is a total of 13,587 hours. The following table details the individual components and estimated hour burdens. In calculating the burdens, we assumed that respondents perform certain requirements in the normal course of their activities. We consider these to be usual and customary and took that into account in estimating the burden.

CIAP reporting and/or recordkeeping requirement | Hour burden | Average number of annual reponses | Annual burden hours
Submit Project Narrative | 42 | 192 projects | 8,064
Submit annual Performance Reports | 8 | 192 reports | 1,536
Submit bi-annual Performance Reports | 8 | 192 reports | 1,536
Notify BOEMRE in case of delays, adverse conditions, etc., which impair ability to meet objectives of the award including statement of action taken or contemplated or assistance required (including non-construction and construction grants) | 8 | 45 notifications | 360
Request termination and supporting information | 6 | 15 requests | 90
Retain all records/documentation for 3 years | .5 | 192 projects | 96
Retain records longer than 3 years if they relate to claim, audit, litigation, etc | Exempt under
| 5 CFR 1320.4(a)(2), (c) |  | 0
Telephone follow-up discussion on Financial Capabilities | 8 | 76 discussions | 608
Develop language and individual signage at CIAP Sites—Estimated 30 construction projects with temp signs initially—permanent signs 2-4years | 8 | 30 signs | 240
Submission of photographs/CDs of projects for tracking purposes | 4 | 250 projects | 1,000
Voluntarily submit draft Coastal Impact Assistance Plan with appropriate supporting documentation | 1 | 4 plans | 4
Submit final Coastal Impact Assistance Plan and all supporting documentation (i.e., Governor's certification of public participation; Appendices C, D, and E) | 1 | 4 plans | 4
Request delay by states for submitting final plan, with relevant data | 1 | 1 request | 1
Request minor changes and/or amendments to a plan | 8 | 6 requests | 48
Total Burden |  | 1,199 Responses | 13,587

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 28, 2011, we published a Federal Register notice (76 FR 5192) announcing that we would submit this ICR to OMB for approval. The notice provided the required 60-day comment period. We have received no comments in response to this effort.

If you wish to comment in response to this notice, you may send your comments to the offices listed under the ADDRESSES section of this notice. The OMB has up to 60 days to approve or disapprove the information collection but may respond after 30 days. Therefore, to ensure maximum consideration, OMB should receive public comments by August 22, 2011.

Public Availability of Comments: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: June 1, 2011.
Doug Slitor,
Acting Chief, Office of Offshore Regulatory Programs.

[FR Doc. 2011-18453 Filed 7-20-11; 8:45 am]

BILLING CODE 4310-MR-P